DEPARTMENT OF THE INTERIOR

National Park Service

[2253-665]

Notice of Inventory Completion: U.S. Department of the Interior, Bureau of Reclamation, Pacific Northwest Region, Boise, ID, and Colville Tribal Repository, Nespelem, WA

AGENCY: National Park Service, Interior.

ACTION: Notice.

Notice is hereby given in accordance with the Native American Graves Protection and Repatriation Act (NAGPRA), 25 U.S.C. 3003, of the completion of an inventory of human remains in the control of the U.S. Department of the Interior, Bureau of Reclamation, Pacific Northwest Region, Boise, ID, and in the physical custody of the Colville Tribal Repository, Nespelem, WA. The human remains were removed from Grant County, WA.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Bureau of Reclamation professional staff with assistance from a Central Washington University physical anthropologist and professional staff from Washington State University, the National Park Service, and the History/Archaeology Department of the Confederated Tribes of the Colville Reservation, Washington.

From the winter of 1963 to 1964, human remains representing a minimum of eight individuals were removed from a location, which was later designated as the Steamboat Rock Mass Grave (45-GR-98), near the mouth of Barker Canyon at Banks Lake, Grant County, WA. A member of the general public reported a mass grave had been exposed by receding waters at Banks Lake. Members of Washington State University's Department of Sociology and Anthropology excavated the remains in an effort to protect them from vandalism and theft. The remains were accessioned at Washington State University. The human remains were moved, most likely in 1967, to the Alfred Bowers Laboratory of Anthropology at the University of Idaho. At an unknown date, the remains were loaned to the Arizona State Museum, University of Arizona, for analysis, and this analysis occurred in 1967. There is no documentation indicating if the loan originated while the remains were at Washington State University or after they had been moved to the University of Idaho, nor is there documentation of which institution they were returned to following analysis. However, the human remains were stored at the University of Idaho until 2000, when they were moved back to Washington State University. In 2006, they were transferred to the Colville Tribal Repository for curation pending repatriation. No known individuals were identified. No associated funerary objects are present.

No physical description of the remains was prepared at the time of recovery. In 1967, the Arizona State Museum documented the partial remains of six individuals. In 2005, the Bureau of Reclamation completed a physical description of the remains. All individuals identified in 1967 were present in the collection at the time of the 2005 inventory, and isolated elements representing two additional individuals were identified.

The osteological evidence as described by archeologists and physical anthropologists indicate the human remains described above are Native American. The geographic location of the site is within the Plateau Culture Area. The site is within the judicially established aboriginal territory of the Confederated Tribes of the Colville Reservation. Tribal oral tradition and anthropological and historical research indicate the site lies within an area occupied by the Sanpoil and the Nespelem Tribes or Bands, who are legally represented by the Confederated Tribes of the Colville Reservation, Washington.

Officials of the Bureau of Reclamation, Pacific Northwest Region, have determined, pursuant to 25 U.S.C. 3001(9), that the human remains described above represent the physical remains of eight individuals of Native American ancestry. Officials of the Bureau of Reclamation, Pacific Northwest Region, have also determined, pursuant to 25 U.S.C. 3001(2), that there is a relationship of shared group identity that can be reasonably traced between the Native American human remains and the Confederated Tribes of the Colville Reservation, Washington.

Representatives of any other Indian tribe that believes itself to be culturally affiliated with the human remains should contact Ms. Lynne MacDonald, Regional Archeologist, Pacific Northwest Region, Bureau of Reclamation, 1150 N. Curtis Road, Boise, ID 83706, telephone (208) 378-5316, before December 16, 2010. Repatriation of the human remains to the Confederated Tribes of the Colville Reservation, Washington, may proceed after that date if no additional claimants come forward.

The Bureau of Reclamation, Pacific Northwest Region, is responsible for notifying the Confederated Tribes of the Colville Reservation, Washington, that this notice has been published.

Dated: November 5, 2010.
Sherry Hutt,
Manager, National NAGPRA Program.

[FR Doc. 2010-28741 Filed 11-15-10; 8:45 am]

BILLING CODE 4312-50-P